DEPARTMENT OF COMMERCE

National Oceanic and Atmospheric Administration

RIN 0648-XM58

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Outreach and Education Advisory Panel (AP).

DATES: The Outreach and Education AP meeting is scheduled to begin at 1 pm on Monday, February 2, 2009 and end by 3 pm on Tuesday, February 3, 2009.

ADDRESSES: The meeting will be held at the Four Points by Sheraton, 6401 Veterans Memorial Hwy., Metairie, LA 70003.

Council address: Gulf of Mexico Fishery Management Council, 2203 North Lois Avenue, Suite 1100, Tampa, FL 33607.

FOR FURTHER INFORMATION CONTACT: Charlene Ponce, Public Information Officer; telephone: (813) 348-1630.

SUPPLEMENTARY INFORMATION: During this organizational meeting, the Outreach and Education AP will elect its officers; develop a charge; and receive overviews on both the Fishery Management Process and the current outreach methods used by the Gulf Council. The AP will also develop a list of issues to consider and discuss during its next meeting. The AP may develop recommendations to the Council regarding Outreach and Education.

Although other non-emergency issues not on the agenda may come before the Outreach and Education AP for discussion, in accordance with the Magnuson-Stevens Fishery Conservation and Management Act (Magnuson-Stevens Act), those issues may not be the subject of formal action during these meetings. Actions of the Outreach and Education AP will be restricted to those issues specifically identified in the agenda and any issues arising after publication of this notice that require emergency action under Section 305(c) of the Magnuson-Stevens Act, provided the public has been notified of the Council's intent to take action to address the emergency. Copies of the agenda can be obtained by calling (813) 348-1630.

Special Accommodations

This meeting is physically accessible to people with disabilities. Requests for sign language interpretation or other auxiliary aids should be directed to Tina O'Hern at the Council (see ADDRESSES) at least 5 working days prior to the meeting.

Dated: January 7, 2009.
Tracey L. Thompson,
Acting Director, Office of Sustainable Fisheries, National Marine Fisheries Service.

[FR Doc. E9-309 Filed 1-9-09; 8:45 am]

BILLING CODE 3510-22-S